DEPARTMENT OF HEALTH AND HUMAN SERVICES

National Institutes of Health

Eunice Kennedy Shriver National Institute of Child Health and Human Development; Amended Notice of Meeting

Notice is hereby given of a change in the meeting of the Function, Integration, and Rehabilitation Sciences Study Section, June 17, 2022, 10:00 a.m. to June 17, 2022, 05:00 p.m., Eunice Kennedy Shriver National Institute of Child Health and Human Development, National Institutes of Health, 6710B Rockledge Drive, Room 2137D, Bethesda, MD 20892 which was published in the Federal Register on May 18, 2022, 87 FR 96.

New Contact Person: Christiane M. Robbins, Scientific Review Officer, Scientific Review Branch, Eunice Kennedy Shriver National Institute of Child Health and Human Development, National Institutes of Health, 6710B Rockledge Drive, Room 2121B, Bethesda, MD 20892, (301) 451-4989, crobbins@mail.nih.gov. The meeting is closed to the public.

Dated: June 7, 2022.
David W. Freeman,
Program Analyst, Office of Federal Advisory Committee Policy.

[FR Doc. 2022-12555 Filed 6-9-22; 8:45 am]

BILLING CODE 4140-01-P